DEPARTMENT OF LABOR

Employment and Training Administration

[TA-W-71,329]

General Motors Company, Formerly Known as General Motors Corporation, Mansfield Metal Center, Including On-Site Leased Workers From Advantis Occupational Health, Aerotek, American Food and Vending, Comprehensive Logistics Company Inc., Development Dimensions International, Hewlett Packard, Ideal Setech Llc, Interim Health Care, Key Office Services, Knight Facilities Management, Premier Manufacturing Support, Quaker Chemical Corporation, Securitas Security Services US, Washington Group International, Waste Management Of Texas Inc., Aramark-Uniform Service, Cjbf, Llc, Ferrous Processing & Trading Co., Paragon Technologies and Severn Trent Services Mansfield, OH; Amended Certification Regarding Eligibility To Apply for Worker Adjustment Assistance

In accordance with Section 223 of the Trade Act of 1974, as amended (“Act”), 19 U.S.C. 2273, the Department of Labor issued a Certification of Eligibility to apply for Worker Adjustment Assistance on March 16, 2010, applicable to workers of General Motors Company, formerly known as General Motors Corporation, Mansfield Metal Center, including on-site leased workers from Advantis Occupational Health, Aerotek, American Food and Vending, Comprehensive Logistics Company Inc., Development Dimensions International, Hewlett Packard, Ideal Setech LLC, Interim Health Care, Key Office Services, Knight Facilities Management, Premier Manufacturing Support, Quaker Chemical Corporation, Securitas Security Services US, Washington Group International, and Waste Management of Texas Inc., Mansfield, Ohio. The notice was published in the Federal Register April 23, 2010 (75 FR 21355).

At the request of the firm, the Department reviewed the certification for workers of the subject firm. The workers are engaged in activities related to the production of metal automotive stampings and assemblies.

The company reports that workers leased from Aramark-Uniform Service, CJBF, LLC, Ferrous Processing & Trading Co., Paragon Technologies and Severn Trent Services were employed on-site at the Mansfield Metal Center, Mansfield, Ohio location of General Motors Company, formerly known as General Motors Corporation. The Department has determined that these workers were sufficiently under the control of the subject firm to be considered leased workers.

Based on these findings, the Department is amending this certification to include workers leased from Aramark-Uniform Service, CJBF, LLC, Ferrous Processing & Trading Co., Paragon Technologies and Severn Trent Services working on site at the Mansfield Metal Center, Mansfield, Ohio location of General Motors Company, formerly known as General Motors Corporation.

The amended notice applicable to TA-W-71,329 is hereby issued as follows:

“All workers of General Motors Company, formerly known as General Motors Corporation, Mansfield Metal Center, including on-site leased workers of Advantis Occupational Health, Aerotek, American Food and Vending, Comprehensive Logistics Company Inc., Development Dimensions International, Hewlett Packard, Ideal Setech LLC, Interim Health Care, Key Office Services, Knight Facilities Management, Premier Manufacturing Support, Quaker Chemical Corporation, Securitas Security Services US, Washington Group International, Waste Management of Texas Inc, Aramark-Uniform Service, CJBF, LLC, Ferrous Processing & Trading Co., Paragon Technologies and Severn Trent Services, Mansfield, Ohio, who became totally or partially separated from employment on or after June 15, 2008, through March 16, 2012, and all workers in the group threatened with total or partial separation from employment on the date of certification through two years from the date of certification, are eligible to apply for adjustment assistance under Chapter 2 of Title II of the Trade Act of 1974, as amended.”

Signed in Washington, DC, this 30th day of April, 2010.
Michael W. Jaffe,
Certifying Officer, Division of Trade Adjustment Assistance.

[FR Doc. 2010-11275 Filed 5-11-10; 8:45 am]

BILLING CODE 4510-FN-P